DEPARTMENT OF COMMERCE

National Oceanic and Atmospheric Administration

Agency Information Collection Activities; Submission to the Office of Management and Budget (OMB) for Review and Approval; Comment Request; Report of Whaling Operations

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 17, 2024 during a 60-day comment period. This notice allows for an additional 30 days for public comments.

Agency: National Oceanic and Atmospheric Administration, Commerce.

Title: Report of Whaling Operations.

OMB Control Number: 0648-0311.

Form Number(s): None.

Type of Request: Regular submission [extension of a current information].

Number of Respondents: 95 (There are approx.165 whaling captains, but many of them do not strike or land a whale in any given year).

Average Hours per Response: 30 minutes for reports on whales struck or on recovery of dead whales, including providing the information to the Native American whaling organization; 1 hour for the Native American whaling organization to type in each report; and 2½ hours for the Native American whaling organization to consolidate and submit reports.

Total Annual Burden Hours: 61.

Needs and Uses: This request is for extension of a current information collection. Native Americans may conduct certain aboriginal subsistence whaling under the Whaling Convention Act in accordance with the provisions of the International Whaling Commission (IWC). In order to respond to obligations under the International Convention for the Regulation of Whaling, the IWC, and the Whaling Convention Act, whaling captains participating in these operations must submit certain information to the Native American whaling organization about strikes and catch of whales. Anyone retrieving a dead whale is also required to report. Captains must place a distinctive permanent identification mark on any harpoon, lance, or explosive dart used, as well as provide information on the mark and self-identification information. The Native American whaling organization receives the reports, compiles them, and submits the information to NOAA. The information is used to monitor the hunt and to ensure that quotas are not exceeded. The information is also provided to the IWC, which uses it to monitor compliance with its requirements.

Affected Public: Individuals or households; State, Local, or Tribal government.

Frequency: Reporting by whaling captains occurs after each strike or landing and is submitted to the Native American whaling organization. The Native American whaling organization may submit interim reports every month and additionally once at the end of each hunting season (Spring and Fall).

Respondent's Obligation: Mandatory.

Legal Authority: Whaling Convention Act (16 U.S.C. 916-9161).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0311.

Sheleen Dumas,
Departmental PRA Clearance Officer, Office of the Under Secretary for Economic Affairs, Commerce Department.

[FR Doc. 2024-27984 Filed 11-27-24; 8:45 am]

BILLING CODE 3510-22-P